DEPARTMENT OF ENERGY

[Docket No. EA-308]

Application to Export Electric Energy; First Commodities Ltd.

AGENCY: Office Electricity Delivery and Energy Reliability, DOE.

ACTION: Notice of application.

SUMMARY: First Commodities Ltd. (FC) has applied for authority to transmit electric energy from the United States to Canada pursuant to section 202(e) of the Federal Power Act.

DATES: Comments, protests or requests to intervene must be submitted on or before May 15, 2006.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On March 21, 2006, the Department of Energy (DOE) received an application from FC to transmit electric energy from the United States to Canada. FC is a private corporation formed in Barbados with its principal place of business in Christ Church, Barbados. FC is a wholly-owned subsidiary of First Commodities International Inc., a holding company based in Barbados. The electric energy which FC proposes to export to Canada would be purchased from electric utilities and Federal power marketing agencies within the U.S.

FC proposes to arrange for the delivery of electric energy to Canada over the existing international transmission facilities owned by Basin Electric Power Cooperative, Bonneville Power Administration, Citizens Utilities Company, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company. The construction, operation, maintenance, and connection of each of the international transmission facilities to be utilized by FC as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the FC application to export electric energy to Canada should be clearly marked with Docket EA-308. Additional copies are to be filed directly with Jean-Jacques Taza, Director, First Commodities Ltd, Worthing Corporate Center, Worthing, Christ Church, Barbados BB15008.

A final decision will be made on this application after the environmental impacts have been evaluated pursuant to the National Environmental Policy Act of 1969, and a determination is made by DOE that the proposed action will not adversely impact on the reliability of the U.S. electric power supply system.

Copies of this application will be made available, upon request, for public inspection and copying at the address provided above or by accessing the program's Home Page at http://www.fe.doe.gov/programs/electricityregulation/. Upon reaching the Home page, select “Pending Proceedings.”

Issued in Washington, DC, on April 7, 2006.
Anthony J. Como,
Director, Permitting and Siting, Office of Electricity Delivery and Energy Reliability.

[FR Doc. E6-5501 Filed 4-12-06; 8:45 am]

BILLING CODE 6450-01-P